DEPARTMENT OF HEALTH AND HUMAN SERVICES

Food and Drug Administration

[Docket No. FDA-2012-N-0001]

Preparation for International Cooperation on Cosmetics Regulations; Public Meeting

AGENCY: Food and Drug Administration, HHS.

ACTION: Notice of meeting.

SUMMARY: The Food and Drug Administration (FDA) is announcing a public meeting entitled “International Cooperation on Cosmetics Regulations (ICCR)-Preparation for ICCR-6 Meeting in Rockville, Maryland” to provide information and receive comments on the International Cooperation on Cosmetics Regulations (ICCR) as well as the upcoming meetings in Rockville, MD. The topics to be discussed are the topics for discussion at the forthcoming ICCR Steering Committee meeting. The purpose of the meeting is to solicit public input prior to the next steering committee and expert working group meetings in Rockville, MD on July10 to 13, 2012.

Date and Time: The meeting will be held on May 15, 2012, from 2 to 4 p.m.

Location: The meeting will be held in the Washington Theater Room at the Hilton Washington DC/Rockville Hotel & Executive Meeting Center, 1750 Rockville Pike, Rockville, MD 20852.

Contact Person: All participants must register with Kimberly Franklin, Office of the Commissioner, Food and Drug Administration, 10903 New Hampshire Ave., Silver Spring, MD 20993, by email: Kimberly.Franklin@fda.hhs.gov or FAX: 301-595-7937.

Registration and Requests for Oral Presentations: Send registration information (including: Name, title, firm name, address, telephone, and fax number), written material and requests to make oral presentation, to the contact person by May 9, 2012.

If you need special accommodations due to a disability, please contact Kimberly Franklin (see Contact Person) at least 7 days in advance.

Interested persons may present data, information, or views orally or in writing, on issues pending at the public meeting. Time allotted for oral presentations may be limited to 10 minutes. Those desiring to make oral presentations should notify the contact person by May 9, 2012, and submit a brief statement of the general nature of the evidence or arguments they wish to present, the names and addresses, telephone number, FAX and email of the proposed participants, and an indication of the approximate time requested to make their presentation.

Transcripts: Please be advised that as soon as a transcript is available, it will be accessible at http://www.regulations.gov. It may be viewed at the Division of Dockets Management (HFA-305), Food and Drug Administration, 5630 Fishers Lane, rm. 1061, Rockville, MD. A transcript will also be available in either hardcopy or on CD-ROM, after submission of a Freedom of Information request. Written requests are to be sent to Division of Freedom of Information (ELEM-1029), Food and Drug Administration, 12420 Parklawn Dr., Element Bldg. Rockville, MD 20857.

SUPPLEMENTARY INFORMATION: The purpose of the multilateral framework on the ICCR is to pave the way for the removal of regulatory obstacles to international trade while maintaining global consumer protection.

ICCR is a voluntary international group of cosmetics regulatory authorities from the: United States, Japan, the European Union, and Canada. These regulatory authority members will enter into constructive dialogue with their relevant cosmetics' industry trade associations. Currently, the ICCR members are: Health Canada; the European Directorate General for Enterprise and Industry; the Ministry of Health, Labor and Welfare of Japan; and the U.S. Food and Drug Administration. All decisions made by consensus will be compatible with the laws, policies, rules, regulations, and directives of the respective administrations and governments. Members will implement and/or promote actions or documents within their own jurisdictions and seek convergence of regulatory policies and practices. Successful implementation will require input from stakeholders.

Interested persons may present data, information, or views orally or in writing, on issues pending at the public meeting. Time allotted for oral presentations may be limited to 10 minutes. Those desiring to make oral presentations should notify the contact person by April 22, 2011, and submit a brief statement of the general nature of the evidence or arguments they wish to present, the names and addresses, telephone number, fax, and email of proposed participants, and an indication of the approximate time requested to make their presentation.

The agenda for the public meeting will be made available on the Internet at http://www.fda.gov/Cosmetics/InternationalActivities/ConferencesMeetingsWorkshops/InternationalCooperationonCosmeticsRegulationsICCR/default.htm.

Dated: March 6, 2012.
Leslie Kux,
Acting Assistant Commissioner for Policy.

[FR Doc. 2012-5744 Filed 3-8-12; 8:45 am]

BILLING CODE 4160-01-P